DEPARTMENT OF COMMERCE

International Trade Administration

[A-552-802, A-533-840, A-570-893, A-549-822]

Certain Frozen Warmwater Shrimp From the People's Republic of China, India, Thailand, and the Socialist Republic of Vietnam: Continuation of Antidumping Duty Orders; Correction

AGENCY: Enforcement and Compliance, International Trade Administration, Department of Commerce.

ACTION: Notice; correction.

SUMMARY: In the Federal Register of July 5, 2023, the U.S. Department of Commerce (Commerce) published a notice of continuation of the antidumping duty (AD) orders on certain frozen warmwater shrimp from the People's Republic of China (China), India, Thailand, and the Socialist Republic of Vietnam (Vietnam). This notice contained an incorrect scope of the orders.

FOR FURTHER INFORMATION CONTACT: Andrew Hart, AD/CVD Operations, Office II, Enforcement and Compliance, International Trade Administration, U.S. Department of Commerce, 1401 Constitution Avenue NW, Washington, DC 20230; telephone: (202) 482-1058.

SUPPLEMENTARY INFORMATION:

Correction

In the Federal Register of July 5, 2023, in FR Doc 2023-14181, on page 42915 in the first and second columns, correct the scope of the orders to state: “The scope of the orders includes certain frozen warmwater shrimp and prawns, whether wild caught (ocean harvested) or farm raised (produced by aquaculture), head on or head off, shell on or peeled, tail on or tail off,¹ deveined or not deveined, cooked or raw, or otherwise processed in frozen form.

¹ “Tails” in this context means the tail fan, which includes the telson and the uropods.

The frozen warmwater shrimp and prawn products included in the scope of the orders, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, white-leg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the orders. In addition, food preparations, which are not “prepared meals,” that contain more than 20 percent by weight of shrimp or prawn are also included in the scope of the orders.

Excluded from the scope are: (1) breaded shrimp and prawns (HTSUS subheading 1605.20.1020); (2) shrimp and prawns generally classified in the Pandalidae family and commonly referred to as coldwater shrimp, in any state of processing; (3) fresh shrimp and prawns whether shell on or peeled (HTSUS subheadings 0306.23.0020 and 0306.23.0040); (4) shrimp and prawns in prepared meals (HTSUS subheading 1605.20.0510); (5) dried shrimp and prawns; (6) Lee Kum Kee's shrimp sauce; ² (7) canned warmwater shrimp and prawns (HTSUS subheading 1605.20.1040); and (8) certain battered shrimp. Battered shrimp is a shrimp-based product: (1) that is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. When dusted in accordance with the definition of dusting above, the battered shrimp product is also coated with a wet viscous layer containing egg and/or milk, and par-fried.

² The specific exclusion for Lee Kum Kee's shrimp sauce applies only to the scope of the AD order on certain frozen warmwater shrimp from China.

The products covered by the orders are currently classified under the following HTSUS subheadings: 0306.17.00.03, 0306.17.00.06, 0306.17.00.09, 0306.17.00.12, 0306.17.00.15, 0306.17.00.18, 0306.17.00.21, 0306.17.00.24, 0306.17.00.27, 0306.17.00.40, 1605.21.10.30, 1605.29.10.10, 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, 0306.17.0042. These HTSUS subheadings are provided for convenience and for customs purposes only; the written description of the scope of the orders are dispositive.” ³

³ On April 26, 2011, Commerce amended the orders to include dusted shrimp, pursuant to the Court decision in Ad Hoc Shrimp Trade Action Committee v. United States, 703 F. Supp. 2d 1330 (CIT 2010) and the U.S. International Trade Commission determination, which found the domestic like product to include dusted shrimp. See Certain Frozen Warmwater Shrimp from Brazil, India, the People's Republic of China, Thailand, and the Socialist Republic of Vietnam: Amended Antidumping Duty Orders in Accordance with Final Court Decision, 76 FR 23277 (April 26, 2011); see also Frozen Warmwater Shrimp from Brazil, China, India, Thailand, and Vietnam, Inv. Nos. 731-TA1063, 1064, 1066-1068 (Review), USITC Pub. 4221 (March 2011).

Background

On July 5, 2023, Commerce published in the Federal Register the continuation of the orders for certain frozen warmwater shrimp from China, India, Thailand, and Vietnam.⁴ We inadvertently included the wrong scope of the orders.

⁴ See Certain Frozen Warmwater Shrimp from the People's Republic of China, India, Thailand, and the Socialist Republic of Vietnam: Continuation of Antidumping Duty Orders, 88 FR 42914 (July 5, 2023).

Notification to Interested Parties

This notice is issued and published in accordance with sections 751(c), 751(d)(2), and 777(i) of the Tariff Act of 1930, as amended, and 19 CFR 351.218(f)(4).

Dated: January 5, 2024.
Abdelali Elouaradia,
Deputy Assistant Secretary for Enforcement and Compliance.

[FR Doc. 2024-00396 Filed 1-10-24; 8:45 am]

BILLING CODE 3510-DS-P